DEPARTMENT OF ENERGY

Federal Energy Regulatory Commission

Lock+™ Hydro Friends Fund XLVII, FFP Missouri 16, LLC, et al.; Notice of Competing Preliminary Permit Applications Accepted for Filing and Soliciting Comments, and Motions To Intervene

December 8, 2010.

Lock+™ Hydro Friends Fund XLVII | Project No. 13743-000.
FFP Missouri 16, LLC | Project No. 13753-000.
Solia 7 Hydroelectric, LLC | Project No. 13769-000.
Three Rivers Hydro, LLC | Project No. 13785-000.
Opekiska Hydro, LLC | Project No. 13791-000.

On May 18, 2010, Lock+ Hydro Friends Fund XLVII, FFP Missouri 16, LLC, Solia 7 Hydroelectric, LLC, and Three Rivers Hydro, LLC, filed applications, and on May 19, 2010, Opekiska Hydro, LLC, filed an application, pursuant to section 4(f) of the Federal Power Act, proposing to study the feasibility of hydropower at the U.S. Army Corps of Engineers Opekiska Lock and Dam on the Monongahela River in Monongahela County, West Virginia. The sole purpose of a preliminary permit, if issued, is to grant the permit holder priority to file a license application during the permit term. A preliminary permit does not authorize the permit holder to perform any land-disturbing activities or otherwise enter upon lands or waters owned by others without the owners' express permission.

Descriptions of the proposed Opekiska Lock and Dam Projects:

Lock+™ Hydro Friends Fund XLVII's proposed project (Project No. 13743-000) would consist of: (1) One lock frame module 109 feet long, 40 feet high, and weighing 1.16 million pounds each, and containing 10 generating units with a total combined capacity of 20 megawatts (MW); (2) a 57-foot-high, 75-foot-long prefabricated concrete wall attached to pilings in the river to support the lock frame module; (3) a 25-foot-long, 50-foot-wide switchyard containing a transformer; and (4) a 4,000-foot-long, 69-kilovolt (kV) transmission line to an existing substation. The proposed project would have an average annual generation of 87.66 gigawatt-hours (GWh), which would be sold to a local utility.

Applicant Contact: Mr. Mark R. Stover, Hydro Green Energy LLC, 5090 Richmond Avenue #390, Houston, TX 77056; phone (877) 556-6566 x709.

FFP Missouri 16, LLC's proposed project (Project No. 13753-000) would consist of: (1) An excavated intake and tailrace channel slightly longer and wider than the powerhouse; (2) a 160-foot-long, 45-foot-wide, 60-foot-high powerhouse containing one generating unit having a total installed capacity of 10 MW; and (3) a 4,900-foot-long, ranging from 34.0 to 230-kV, transmission line. The proposed project would have an average annual generation of 42.0 GWh, which would be sold to a local utility.

Applicant Contact: Ms. Ramya Swaminathan, Free Flow Power Corporation, 33 Commercial Street, Gloucester, MA 01930; phone (978) 283-2822.

Solia 7 Hydroelectric, LLC's proposed project (Project No. 13769-000) would consist of: (1) A 300-foot-long, 160-foot-wide excavated intake channel; (2) a 200-foot-long, 160-foot-wide excavated tailrace; (3) a 45-foot-long, 160-foot-wide, 60-foot-high concrete powerhouse containing one generating unit with a capacity of 10 MW; and (4) a 4,900-foot-long, transmission line ranging from 34.0 to 230-kV. The proposed project would have an average annual generation of 42 GWh, which would be sold to a local utility.

Applicant Contact: Mr. Douglas Spaulding, P.E., Nelson Energy, 8441 Wayzata Blvd., Suite 101, Golden Valley, MN, 55426; phone (952) 544-8133.

Three Rivers Hydro, LLC's proposed project (Project No. 13785-000) would consist of: (1) A 75-foot-long, 65-foot-wide, 20-foot-deep excavated power canal; (2) a 55-foot-long, 65-foot-wide, 8-foot-deep excavated tailrace; (3) a 45-foot-long, 110-foot-wide, 40-foot-high concrete powerhouse containing two generating units having a total installed capacity of 4.5 MW; and (4) a 4,900-foot-long, 23-kV transmission line. The proposed project would have an average annual generation of 24.0 GWh, which would be sold to a local utility.

Applicant Contact: Mr. Cornelius J. Collins, Three Rivers Hydro, LLC, 316 South Clinton Street, Suite 4, Syracuse, NY 13202; phone (315) 477-9914.

Opekiska Hydro, LLC's proposed project (Project No. 13791-000) would consist of: (1) A 125-foot-long, excavated power canal; (2) a 190-foot-long excavated tailrace; (3) a powerhouse containing a 4.2 MW generating unit; (4) a switchyard; and (5) a 0.8-mile-long, 69.0-kV transmission line. The proposed project would have an average annual generation of 13.9 GWh, which would be sold to a local utility.

Applicant Contact: Mr. Brent Smith, Symbiotics LLC., P.O. Box 535, Rigby, ID 83442; phone (208) 745-0834.

FERC Contact: Gaylord Hoisington, (202) 502-6032.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov; call toll-free at (866) 208-3676; or, for TTY, contact (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-13743-000, 13753-000, 13769-000, 13785-000, or 13791-000) in the docket number field to access the document. For assistance, contact FERC Online Support.

Kimberly D. Bose,
Secretary.

[FR Doc. 2010-31415 Filed 12-14-10; 8:45 am]

BILLING CODE 6717-01-P